ENVIRONMENTAL PROTECTION AGENCY

[EPA-HQ-OECA-2012-0677; FRL-9993-07-OMS]

Information Collection Request Submitted to OMB for Review and Approval; Comment Request; NSPS for Storage Vessels for Petroleum Liquids for Which Construction, Reconstruction or Modification Commenced After June 11, 1973 and Prior to May 19, 1978 (Renewal)

AGENCY: Environmental Protection Agency (EPA).

ACTION: Notice.

SUMMARY: The Environmental Protection Agency (EPA) has submitted an information collection request (ICR), NSPS for Storage Vessels for Petroleum Liquids for Which Construction, Reconstruction or Modification Commenced After June 11, 1973 and Prior to May 19, 1978 (EPA ICR Number 1797.08, OMB Control Number 2060-0442) to the Office of Management and Budget (OMB) for review and approval in accordance with the Paperwork Reduction Act. This is a proposed extension of the ICR, which is currently approved through June 30, 2019. Public comments were previously requested via the Federal Register on May 30, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before May 30, 2019.

ADDRESSES: Submit your comments, referencing Docket ID Number EPA-HQ-OECA-2012-0677 to (1) EPA online using www.regulations.gov (our preferred method), by email to docket.oeca@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, EPA West, Room 3334, 1301 Constitution Ave. NW, Washington, DC. The telephone number for the Docket Center is 202-566-1744. For additional information about EPA's public docket, visit http://www.epa.gov/dockets.

Abstract: The New Source Performance Standards (NSPS) for the regulations published at 40 CFR part 60, subpart K were proposed on June 11, 1973, and promulgated on March 8, 1974. These regulations apply to existing facilities and new facilities that store petroleum liquids in storage vessels with a storage capacity greater than 151,416 liters (40,000 gallons), including: Storage vessels with capacity greater than 151,416 liters (40,000 gallons), but not exceeding 246,052 liters (65,000 gallons). New facilities include those that commenced construction, modification after the date of proposal. This information is being collected to assure compliance with 40 CFR part 60, subpart K.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Refineries.

Respondent's obligation to respond: Mandatory.

Estimated number of respondents: 69 (total).

Frequency of response: Initially and occasionally.

Total estimated burden: 321 hours (per year). Burden is defined at 5 CFR 1320.3(b).

Total estimated cost: $36,500 (per year), includes $0 annualized capital or operation & maintenance costs.

Changes in the estimates: There is no change in the burden in this ICR compared to the previous ICR. This is due to two considerations. First, the regulations have not changed over the past three years and are not anticipated to change over the next three years. Secondly, the growth rate for the industry is very low, negative or non-existent, so there is no significant change in the overall burden. There is an adjustment increase in labor costs; the increase is due to updated labor rates, which increases the hourly labor cost. There are no capital or operating and maintenance costs associated with this rule.

Courtney Kerwin,
Director, Regulatory Support Division.

[FR Doc. 2019-08718 Filed 4-29-19; 8:45 am]

BILLING CODE 6560-50-P